DEPARTMENT OF TRANSPORTATION

Federal Aviation Administration

14 CFR Part 39

[Docket No. FAA-2012-0428; Directorate Identifier 2011-NM-078-AD; Amendment 39-17248; AD 2012-22-12]

RIN 2120-AA64

Airworthiness Directives; Airbus Airplanes

AGENCY: Federal Aviation Administration (FAA), Department of Transportation (DOT).

ACTION: Final rule.

SUMMARY: We are adopting a new airworthiness directive (AD) for all Airbus Model A330-243, -243F, -341, -342, and -343 airplanes. This AD was prompted by reports of cracking of air intake cowls on Rolls-Royce Trent engines, worn and detached attachment links, and fractured thermal anti-ice (TAI) piccolo tubes. This AD requires inspecting piccolo tubes, piccolo tube mount links, the aft side of the forward bulkhead, and outer boundary angles (OBA) for cracks, fractures, and broken links, and corrective actions if necessary. We are issuing this AD to prevent degraded structural integrity of the engine nose cowl in case of forward bulkhead damage in conjunction with a broken piccolo tube, and damage to the engine due to operation in icing conditions with reduced TAI performance.

DATES: This AD becomes effective December 14, 2012.

The Director of the Federal Register approved the incorporation by reference of certain publications listed in this AD as of December 14, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on May 8, 2012 (77 FR 26998). That NPRM proposed to correct an unsafe condition for the specified products. The MCAI states:

During shop visit, several primary assembly structures of A330 aeroplanes Trent 700 [engine] air intake cowl have been found with cracks in the forward bulkhead web, web stiffeners and outer boundary angles. Several attachment links have been found severely worn, and some had become detached. In 2 cases, the Thermal Anti Ice (TAI) Piccolo tube was found fractured. Investigations are still ongoing to determine the root cause(s).

If not detected and corrected, a broken Piccolo tube in conjunction with forward bulkhead damage could ultimately lead to in flight detachment of the outer barrel, which would constitute an unsafe condition.

For the reasons described above, this [European Aviation Safety Agency (EASA)] AD requires to perform inspections of RR [Rolls-Royce] Trent 700 [engine] nose cowls and, depending on findings, to do the applicable corrective action(s). These inspections include internal inspection of Piccolo tube, detailed inspection of Piccolo tube mount links, [boroscope] inspection of aft side of forward bulkhead and outer boundary angle [for cracks, fractures, and broken links].

We are issuing this AD to prevent degraded structural integrity of the engine nose cowl in case of forward bulkhead damage in conjunction with a broken piccolo tube and damage to the engine due to operation in icing conditions with reduced TAI performance. The corrective action is replacing the affected engine air intake cowl with a new or serviceable cowl. You may obtain further information by examining the MCAI in the AD docket.

Comments

We gave the public the opportunity to participate in developing this AD. We considered the comments received.

Request To Delete Completion of Reporting Form

US Airways requested that we delete the requirement to complete Appendix 01 of Airbus Mandatory Service Bulletin A330-71-3025, dated January 10, 2011, which is the form for reporting inspection results to Airbus. US Airways stated that accomplishing this reporting is burdensome and does not improve the safety aspects of the inlet cowl inspections.

We agree because reporting is voluntary. Airbus has concurred that EASA AD 2011-0062, dated April 4, 2011, does not require reporting of the inspection findings and that it is Airbus's intent that reporting should be done on a voluntary basis. We have changed the final rule throughout to exclude Appendix 01 when referring to Airbus Mandatory Service Bulletin A330-71-3025, dated January 10, 2011.

Request To Change Piccolo Tube Link Inspection

US Airways requested that the piccolo tube link inspection be completely independent for each inlet cowl, and that a conservative approach could be incorporated in the NPRM (77 FR 26998, May 8, 2012) to allow only one broken piccolo tube link on an inlet cowl if the cowl remains in service on an airplane. US Airways stated that more than one broken piccolo tube link would mandate removal of the cowl prior to further flight. US Airways explained that the inspection results tie the serviceability of cowl being inspected to the condition of the inlet cowl installed on the other engine of the airplane. US Airways asserted that this will require a difficult and unnecessarily complicated management plan by an operator. US Airways reasoned that the serviceability of the inlet cowl being inspected should be determined independently of the inlet cowl installed on the other engine, and that Table 3 “Detailed Inspection of the Broken Piccolo Tubes Links” of Paragraph 1.E., “Compliance,” of Airbus Mandatory Service Bulletin A330-71-3025, dated January 10, 2011, contains 20 different scenarios related to the number of broken piccolo tube links in both the left and right inlet cowls and flight cycles achieved on each inlet cowl. US Airways stated that the left and right engines and nacelles are completely separate and designed to individually provide continued propulsion to the airplane in the event of failure of one engine; and that this is the basis of the FAA extended operations (ETOPS) rules.

We disagree with changing the piccolo tube link inspection requirements, and allowing one piccolo tube link broken on each inlet cowl. The criteria and corrective actions specified in Airbus Mandatory Service Bulletin A330-71-3025, dated January 10, 2011, represent the conditions for the safe operation of the airplane. Only one piccolo tube link broken on the airplane is allowed. The commenter did not provide sufficient data to substantiate that its request would provide an acceptable level of safety. Once we issue this AD, any person may request approval of an alternate methods of compliance (AMOC) under the provisions of paragraph (k) of this AD. We have not changed the AD in this regard.

Request To Change OBA and Forward Bulkhead Inspection Criteria

US Airways recommended a change in the OBA and forward bulkhead inspection criteria, as follows.

• Cracks up to 9 inches in length on the OBA would be acceptable.

• Cracks up to 2 inches in length on the forward bulkhead would be acceptable.

• Re-inspection of the OBA and forward bulkhead would be required at subsequent intervals not to exceed 2,500 flight cycles.

• Replace the inlet cowl for any OBA crack of 22 inches or greater or any forward bulkhead crack of 13 inches or greater, would be required prior to further flight.

• Replace the inlet cowl for an OBA crack greater than 15 inches, but less than 22 inches, or any forward bulkhead crack greater than 9 inches, but less than 13 inches, within 100 flight cycles.

We disagree because Airbus Mandatory Service Bulletin A330-71-3025, dated January 10, 2011, which references Rolls-Royce Service Bulletin RB.211-71-AG416, dated September 3, 2010, provides the inspection criteria and allowable conditions for the safe operation of the airplane. The commenter did not present sufficient data to substantiate that the crack lengths in its first and second recommendations would provide an acceptable level of safety. Actions suggested by the commenter in its third, fourth, and fifth recommendations are already reflected in paragraphs (i)(1)(ii), (i)(2)(i), and (i)(2)(ii) of this AD. However, operators may request approval of an AMOC under the provisions of paragraph (k) of this AD if sufficient data are submitted to substantiate that the change would provide a acceptable level of safety. We have not changed the AD in this regard.

Request To Change Engine Inlet Cowl Inspection

US Airways recommended a simpler re-inspection management plan of inspecting any engine inlet cowl that has achieved more than 5,000 flight cycles since new at repeat intervals not to exceed 2,500 flight cycles. US Airways stated that the engine inlet cowl inspection should follow Airbus Mandatory Service Bulletin A330-71-3025, dated January 10, 2011; and Rolls-Royce Service Bulletin RB.211-71-AG416, dated September 3, 2010; regarding the inspection schedule of the piccolo tube, the piccolo tube links, the OBA, and the forward bulkhead.

We disagree because Airbus Mandatory Service Bulletin A330-71-3025, dated January 10, 2011, which references Rolls-Royce Service Bulletin RB.211-71-AG416, dated September 3, 2010, specifies the repetitive inspection intervals for the safe operation of the airplane, which depend on the crack size. If the crack is within allowable limits, the inspection interval may be greater or less than 2,500 flight cycles as recommended by the commenter. Insufficient justification was submitted to substantiate a 2,500-flight-cycle inspection interval. However, under the provisions of paragraph (k) of this AD we will consider requests for an AMOC if sufficient data is submitted to justify an extended inspection interval for certain limits. We have not changed the AD in this regard.

Request To Change Wording in Paragraphs (h)(2) and (h)(3) of the NPRM (77 FR 26998, May 8, 2012)

Airbus requested that we change the word “engine” to “aircraft” in paragraph (h)(2) of the NPRM (77 FR 26998, May 8, 2012).

US Airways requested that we clarify the instructions in paragraph (h)(3) of the NPRM (77 FR 26998, May 8, 2012) by revising “* * * and the opposite intake cowl of the same engine has * * *,” to state “* * * and the intake cowl of the opposite engine has * * *.”

We agree to clarify paragraphs (h)(2) and (h)(3) of this AD. We changed the word “engine” to “airplane” in paragraphs (h)(2) and (h)(3) of the AD, since each engine has one inlet cowl.

Request To Change Unsafe Condition Statement

Airbus requested that we remove the information that a broken piccolo tube could lead to in-flight damage of the engine and reduced TAI performance from the unsafe condition statement in the NPRM (77 FR 26998, May 8, 2012).

We agree with the commenter's requested wording change of the unsafe condition statement in this AD. In addition, we have revised the unsafe condition statement in this AD to match the unsafe condition statement defined in Airbus Mandatory Service Bulletin A330-71-3025, dated January 10, 2011. We have changed the Summary and Discussion sections, and paragraph (e) of the AD.

Request To Change Repetitive Inspection Interval

Airbus requested that we lower the repetitive inspection interval for the OBA and forward bulkhead inspections from 450 flight cycles to 250 flight cycles, and from 400 flight cycles to 200 flight cycles respectively. The commenter stated that these lower inspection intervals will be introduced in the forthcoming revisions of the Airbus and Rolls-Royce service information.

We disagree to change the repetitive inspection intervals in this AD. We have determined that the compliance times required by this AD adequately address the identified unsafe condition. However, if additional data are presented that would justify a shorter compliance time, we might consider further rulemaking on this issue. New revisions of the service information referenced in this AD have not been released. We have not changed the AD in this regard.

Conclusion

We reviewed the available data, including the comments received, and determined that air safety and the public interest require adopting the AD with the changes described previously, except for minor editorial changes. We have determined that these changes:

• Are consistent with the intent that was proposed in the NPRM (77 FR 26998, May 8, 2012) for correcting the unsafe condition; and

• Do not add any additional burden upon the public than was already proposed in the NPRM (77 FR 26998, May 8, 2012).

Costs of Compliance

Based on the service information, we estimate that this AD affects about 14 products of U.S. registry. We also estimate that it takes about 10 work-hours per engine to comply with the basic requirements of this AD. The average labor rate is $85 per work-hour. Based on these figures, we estimate the cost of the AD on U.S. operators to be $11,900 per engine, or $850 per engine.

In addition, we estimate that any necessary follow-on actions would take about 16 work-hours per engine for a cost of $1,360 per engine. We have received no definitive data that would enable us to provide material cost estimates for the on-condition actions specified in this AD. We have no way of determining the number of products that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 26998, May 8, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-22-12 Airbus: Amendment 39-17248. Docket No. FAA-2012-0428; Directorate Identifier 2011-NM-078-AD.

(a) Effective Date

This airworthiness directive (AD) becomes effective December 14, 2012.

(b) Affected ADs

None.

(c) Applicability

This AD applies to Airbus Model A330-243, -243F, -341, -342, and -343 airplanes, certificated in any category, all serial numbers.

(d) Subject

Air Transport Association (ATA) of America Code 71, Powerplant.

(e) Reason

This AD was prompted by reports of cracking of air intake cowls on Rolls-Royce Trent engines, worn and detached attachment links, and fractured thermal anti-ice (TAI) piccolo tubes. We are issuing this AD to prevent degraded structural integrity of the engine nose cowl in case of forward bulkhead damage in conjunction with a broken piccolo tube, and damage to the engine due to operation in icing conditions with reduced TAI performance.

(f) Compliance

You are responsible for having the actions required by this AD performed within the compliance times specified, unless the actions have already been done.

(g) Piccolo Tube Inspection

At the applicable time specified in paragraph (g)(1) or (g)(2) of this AD, do a boroscope inspection of each air intake cowl assembly of each engine to detect cracked or fractured piccolo tubes, in accordance with the Accomplishment Instructions of Airbus Mandatory Service Bulletin A330-71-3025, excluding Appendices 01 and 02, dated January 10, 2011. If any cracked or fractured piccolo tube is found: Before further flight, replace the affected engine air intake cowl with a new or serviceable engine air intake cowl, in accordance with the Accomplishment Instructions of Airbus Mandatory Service Bulletin A330-71-3025, excluding Appendices 01 and 02, dated January 10, 2011.

(1) For any engine air intake cowl that has accumulated fewer than 5,000 flight cycles since its first installation on an airplane as of the effective date of this AD: Inspect within 24 months after the engine air intake cowl has accumulated 5,000 total flight cycles.

(2) For any engine air intake cowl that has accumulated 5,000 or more flight cycles since its first installation on an airplane as of the effective date of this AD: Inspect within 24 months after the effective date of this AD.

(h) Piccolo Link Inspection

If the inspection findings of paragraph (g) of this AD indicate no cracked or fractured piccolo tube: Before further flight, do a boroscope inspection of the piccolo tube links to detect broken links, in accordance with the Accomplishment Instructions of Airbus Mandatory Service Bulletin A330-71-3025, excluding Appendices 01 and 02, dated January 10, 2011. If no broken links are found: Before further flight, do the actions required by paragraph (i) of this AD.

(1) If four or more broken piccolo tube links are found: Before further flight, replace the affected engine air intake cowl with a new or serviceable engine air intake cowl, in accordance with the Accomplishment Instructions of Airbus Mandatory Service Bulletin A330-71-3025, excluding Appendices 01 and 02, dated January 10, 2011.

(2) If three or fewer broken piccolo tube links are found, and the opposite engine air intake cowl of the same airplane has accumulated 5,000 flight cycles or less since the engine air intake cowl was first installed on an airplane: Before further flight, do the actions in Figure A-FBBAA-Sheet 03, Flow Chart, of Airbus Mandatory Service Bulletin A330-71-3025, excluding Appendices 01 and 02, dated January 10, 2011, as required by paragraph (i) of this AD.

(3) If three or fewer broken piccolo tube links are found, and the opposite engine air intake cowl of the same airplane has accumulated more than 5,000 flight cycles since the engine air intake cowl was first installed on an airplane: Before further flight, do a boroscope inspection of the piccolo tube links of the opposite engine air intake cowl side to detect broken links, in accordance with the Accomplishment Instructions of Airbus Mandatory Service Bulletin A330-71-3025, excluding Appendices 01 and 02, dated January 10, 2011.

(i) If the inspection findings of the piccolo tube links of the opposite engine air intake cowl side indicate no broken piccolo tube links: Before further flight, do the actions required by paragraph (i) of this AD.

(ii) If the inspection findings of the piccolo tube links of the opposite engine air intake cowl side indicate one or more broken piccolo tube links: Before further flight, do the actions specified in Note 01 of Figure A-FBBAA-Sheet 02, Flow Chart, of Airbus Mandatory Service Bulletin A330-71-3025, excluding Appendices 01 and 02, dated January 10, 2011, at the time specified in Note 01 of Figure A-FBBAA-Sheet 02, Flow Chart, of Airbus Mandatory Service Bulletin A330-71-3025, excluding Appendices 01 and 02, dated January 10, 2011, except for the instructions to “See Sheet 03.” Where Note 01 of Figure A-FBBAA-Sheet 02, Flow Chart, of Airbus Mandatory Service Bulletin A330-71-3025, excluding Appendices 01 and 02, dated January 10, 2011, specifies to “See Sheet 03” to do a detailed inspection of the OBA and bulkhead, as specified in Rolls-Royce Service Bulletin RB.211-71-AG416, excluding Appendix 1, dated September 3, 2010: This AD requires the detailed inspection specified in Figure A-FBBAA-Sheet 03, Flow Chart, of Airbus Mandatory Service Bulletin A330-71-3025, excluding Appendices 01 and 02, dated January 10, 2011, to be done in accordance with paragraph (i) of this AD.

(i) Repetitive Outer Boundary Angle and Forward Bulkhead Inspection

If the results of the inspection required by paragraph (h) of this AD indicate no broken piccolo tube links, or if the requirements in paragraph (h)(2) or (h)(3)(ii) of this AD specify to do the actions in Figure A-FBBAA-Sheet 03, Flow Chart, of Airbus Mandatory Service Bulletin A330-71-3025, excluding Appendices 01 and 02, dated January 10, 2011: Before further flight, do a boroscope inspection of the OBA and forward bulkhead to detect cracks or fractures, in accordance with the Accomplishment Instructions of Airbus Mandatory Service Bulletin A330-71-3025, excluding Appendices 01 and 02, dated January 10, 2011; and the Accomplishment Instructions of Rolls-Royce Service Bulletin RB.211-71-AG416, excluding Appendix 1, dated September 3, 2010.

(1) If the findings of the inspection are within the allowable damage limits, as specified in the Accomplishment Instructions of Rolls-Royce Service Bulletin RB.211-71-AG416, excluding Appendix 1, dated September 3, 2010: Do the actions in paragraphs (i)(1)(i) and (i)(1)(ii) of this AD.

(i) Repeat the inspection of the OBA and forward bulkhead thereafter at the repeat interval specified in Part 3.B. of the Accomplishment Instructions of Rolls-Royce Service Bulletin RB.211-71-AG416, excluding Appendix 1, dated September 3, 2010.

(ii) Repeat the inspections specified in paragraphs (g) and (h) of this AD thereafter at intervals not to exceed 2,500 flight cycles.

(2) If the findings of the inspection are not within the allowable damage limits, as specified in the Accomplishment Instructions of Rolls-Royce Service Bulletin RB.211-71-AG416, excluding Appendix 1, dated September 3, 2010: Do the actions in paragraphs (i)(2)(i) or (i)(2)(ii) of this AD, as applicable.

(i) If any OBA crack is 22 inches or greater, or any forward bulkhead crack is 13 inches or greater: Before further flight, replace the affected engine air intake cowl with a new or serviceable engine air intake cowl, in accordance with the Accomplishment Instructions of Airbus Mandatory Service Bulletin A330-71-3025, excluding Appendices 01 and 02, dated January 10, 2011.

(ii) If any OBA crack is 15 inches or greater, but less than 22 inches, or any forward bulkhead crack is 9 inches or greater, but less than 13 inches: Within 100 flight cycles, replace the affected engine air intake cowl with a new or serviceable engine air intake cowl, in accordance with the Accomplishment Instructions of Airbus Mandatory Service Bulletin A330-71-3025, excluding Appendices 01 and 02, dated January 10, 2011.

(j) Repetitive Inspections for Replaced Engine Air Intake Cowls

If any engine air intake cowl is replaced in accordance with the requirements of this AD with an engine air intake cowl that has less than 5,000 flight cycles since the engine air intake cowl was first installed on an airplane: Repeat the inspection required by paragraph (g) of this AD thereafter at the compliance time specified in paragraph (g)(1) of this AD.

(1) If any engine air intake cowl is replaced in accordance with the requirements of this AD with an engine air intake cowl with 5,000 flight cycles or more since the engine air intake cowl was first installed on an airplane: Repeat the inspections required by paragraphs (g) and (h) of this AD thereafter at intervals not to exceed 2,500 flight cycles.

(2) If any engine air intake cowl is replaced in accordance with the requirements of this AD with an engine air intake cowl with 5,000 flight cycles or more since the engine air intake cowl was first installed on an airplane: Repeat the inspections required by paragraph (i) of this AD thereafter at the intervals specified in the Accomplishment Instructions of Rolls-Royce Service Bulletin RB.211-71-AG416, excluding Appendix 1, dated September 3, 2010.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI European Aviation Safety Agency Airworthiness Directive 2011-0062, dated April 4, 2011, and the service information specified in paragraphs (l)(1) and (l)(2) of this AD, for related information.

(1) Airbus Mandatory Service Bulletin A330-71-3025, excluding Appendices 01 and 02, dated January 10, 2011.

(2) Rolls-Royce Service Bulletin RB.211-71-AG416, excluding Appendix 1, dated September 3, 2010.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-71-3025, excluding Appendices 01 and 02, dated January 10, 2011.

(ii) Rolls-Royce Service Bulletin RB.211-71-AG416, excluding Appendix 1, dated September 3, 2010.

(3) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) For Rolls-Royce service information identified in this AD, contact Rolls-Royce Plc, Technical Publications, P.O. Box 31, Derby, DE24 8BJ, United Kingdom; telephone 44 (0) 1332 245882; fax 44 (0) 1332 249936; Internet http://www.Rolls-Royce.com.

(5) You may review copies of the service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on October 26, 2012.
Kalene C. Yanamura,
Acting Manager, Transport Airplane Directorate, Aircraft Certification Service.

[FR Doc. 2012-26892 Filed 11-8-12; 8:45 am]

BILLING CODE 4910-13-P